DEPARTMENT OF COMMERCE

Foreign-Trade Zones Board

[B-50-2018]

Foreign-Trade Zone (FTZ) 41—Milwaukee, Wisconsin; Authorization of Production Activity; Generac Power Systems, Inc. (Outdoor Power Equipment, Pumps, and Lawn and Garden Equipment); Jefferson and Whitewater, Wisconsin

On August 6, 2018, Generac Power Systems, Inc. (Generac) submitted a notification of proposed production activity to the FTZ Board for its facilities within Subzone 41J, in Jefferson and Whitewater, Wisconsin.

The notification was processed in accordance with the regulations of the FTZ Board (15 CFR part 400), including notice in the Federal Register inviting public comment (83 FR 42108-42109, August 20, 2018). On December 4, 2018, the applicant was notified of the FTZ Board's decision that no further review of the activity is warranted at this time. The production activity described in the notification was authorized, subject to the FTZ Act and the FTZ Board's regulations, including Section 400.14, and further subject to a restriction requiring that foreign-status disposable textile bag liners and lithium-ion batteries be admitted to the subzone in privileged foreign status (19 CFR 146.41).

Dated: December 4, 2018.
Andrew McGilvray,
Executive Secretary.

[FR Doc. 2018-26768 Filed 12-10-18; 8:45 am]

BILLING CODE 3510-DS-P